DEPARTMENT OF JUSTICE

Immigration and Naturalization Service

[INS No. 2197-02; AG Order No. 2577-2002]

RIN 1115-AE26

Extension of the Designation of Honduras Under the Temporary Protected Status Program

AGENCY: Immigration and Naturalization Service, Justice.

ACTION: Notice.

SUMMARY: The designation of Honduras under the Temporary Protected Status (TPS) Program will expire on July 5, 2002. This notice extends the Attorney General's designation of Honduras for 12 months until July 5, 2003, and sets forth procedures necessary for nationals of Honduras (or aliens having no nationality who last habitually resided in Honduras) with TPS to re-register for the additional 12-month period. Re-registration is available only to persons who registered under the initial Honduras TPS designation, which ended on July 5, 1999, or who registered after that date under the late initial registration provisions, and timely re-registered under each subsequent extension. Nationals of Honduras (or aliens having no nationality who last habitually resided in Honduras) who have not previously applied for TPS may be eligible to apply for TPS under late initial registration provisions.

EFFECTIVE DATES: The extension of the TPS designation for Honduras is effective July 5, 2002, and will remain in effect until July 5, 2003. The 60-day re-registration period begins May 3, 2002 and will remain in effect until July 2, 2002.

FOR FURTHER INFORMATION CONTACT: Emily Crowder Frazelle, Program Analyst, Residence and Status Branch, Adjudications, Immigration and Naturalization Service, 425 I Street, NW, Room 3040, Washington, DC 20536, telephone (202) 514-4754.

SUPPLEMENTARY INFORMATION:

What Authority Does the Attorney General Have To Extend the Designation of Honduras Under the TPS Program?

Section 244(b)(3)(A) of the Immigration and Nationality Act ( Act) states that at least 60 days before the end of a designation, or any extension thereof, the Attorney General must review conditions in the foreign state for which the designation is in effect. 8 U.S.C. 1254a(b)(3)(A). If the Attorney General does not determine that the foreign state no longer continues to meet the conditions for designation, the period of designation is extended automatically for 6 months pursuant to section 244(b)(3)(C) of the Act, although the Attorney General may exercise his discretion to extend the designation for a period of 12 or 18 months. 8 U.S.C.1254a(b)(3)(C).

Why Did the Attorney General Decide To Extend the TPS Designation for Honduras?

On January 5, 1999, the Attorney General initially designated Honduras under the TPS program for a period of 18 months based on the severe flooding and mudslides caused by Hurricane Mitch. (64 FR 524). The fierce storm that swept through the country killed more than 5,000 people, damaged over 440,000 homes, destroyed over 100 bridges and washed away countless roads. Immigration and Naturalization Service (INS) Resource Information Center, Recommendation to Extend (April 2000). Following the initial designation, the Department of Justice kept a close watch over the progress of reconstruction in Honduras and consulted with relevant government agencies regularly. Given the amount of reconstruction necessary, the Attorney General extended the Honduras TPS designation twice, on May 11, 2000 (65 FR 30438) and May 8, 2001 (66 FR 23269). Each decision to extend the TPS designation was made on the determination that the conditions that warranted TPS designation initially continued to exist.

After the extension of Honduras' TPS designation on May 8, 2001, the Departments of State and Justice continued to monitor the conditions in that country. Prior to his decision to extend the Honduras TPS designation, the Attorney General consulted appropriate government agencies to determine whether conditions warranting the TPS designation continue to exist in Honduras. Although there are strong indications of progress in recovery efforts, recent droughts as well as flooding from Hurricane Michelle in 2001 have added to the humanitarian, economic, and social problems initially brought on by Hurricane Mitch in 1998, making the country unable, temporarily, to handle the return of approximately 105,000 nationals.

This assessment is consistent with a recent Department of State report that found that although a significant amount of reconstruction has been completed since Hurricane Mitch, “Honduras was also seriously affected by a drought and hurricane last year, causing further destruction and emergency conditions.” Recommendation for Extension of TPS (March 22, 2002). Hurricane Michelle affected more than 50,000 people and damaged 1,300 houses, compounding the reconstruction efforts following Hurricane Mitch. Id. Such repeated environmental catastrophes have interrupted Honduras' ability to recover from Hurricane Mitch and, as a result, the country continues to lack the needed stability and infrastructure to support the return of its nationals. The INS Resource Information Center reported in March 2002 that, in concert with Hurricane Mitch, these more recent disasters “have produced major problems of food insecurity, unemployment and displacement of citizens” and “resulted in significant setbacks to full economic recovery from the damages sustained in 1998.”

In addition to the environmental setbacks, Honduras' reconstruction efforts have been hindered by delays in disbursements of aid needed to rebuild. The Department of State reports that, in some instances, these delays in disbursement of funds from international donors and lending institutions have slowed the rehabilitation of Honduras' infrastructure. Continuing Mitch Reconstruction (March 2002). For example, delayed disbursements in foreign countries' pledges to rebuild bridges and roads resulted in approximately 1,724 meters of bridges remaining unfinished, and 558 kilometers of road left to be rehabilitated. Id. Further, approximately 64 percent of homes destroyed by Hurricane Mitch remain in need of rebuilding or repair. Id. These setbacks, in addition to problems caused by the subsequent flooding and droughts, render Honduras unable to handle adequately the return of its nationals. Consequently, the conditions under which Honduras was designated for TPS have not ceased to exist.

Based on this review, the Attorney General, after consultation with appropriate government agencies, finds that the conditions that prompted designation of Honduras under the TPS program continue to be met. 8 U.S.C. 1254a(b)(3)(C). There continues to be a substantial, but temporary, disruption of living conditions in Honduras as a result of environmental disaster, and Honduras continues to be unable, temporarily, to handle adequately the return of its nationals. 8 U.S.C. 1254a(b)(1)(B)(i)-(ii). On the basis of these findings, the Attorney General concludes that the TPS designation for Honduras should be extended for an additional 12-month period. 8 U.S.C. 1254a(b)(3)(C).

If I Currently Have TPS Through the Honduras TPS Program, Do I still Re-register for TPS?

Yes. If you already have been granted TPS through the Honduras TPS program, your status will expire on July 5, 2002. Accordingly, you must re-register for TPS in order to maintain your status through July 5, 2003. See the following re-registration instructions.

If I Am Currently Registered for TPS, How Do I Reregister for an Extension?

All persons previously granted TPS under the Honduras program who wish to maintain such status must apply for an extension by filing (1) a Form I-821, Application for Temporary Protected Status, without the filing fee; (2) a Form I-765, Application for Employment Authorization; and (3) two identification photographs (1½ inches x 1½ inches). See the chart below to determine whether you must submit the one hundred and twenty dollar ($120) filing fee with the Form I-765. Applicants for an extension of TPS benefits do not need to be re-fingerprinted and thus need not pay the fifty-dollar ($50) fingerprint fee. Children beneficiaries of TPS who have reached the age of fourteen (14) but were not previously fingerprinted must pay the fifty dollar ($50) fingerprint fee with the application for extension.

Submit the completed forms and applicable fee, if any, to the INS service center office having jurisdiction over your place of residence during the 60-day re-registration period that begins May 3, 2002 and ends July 2, 2002 (inclusive of such end date).

If— | Then—
You are applying for employment authorization until July 5, 2003 | You must complete and file the Form I-765, Application for Employment Authorization, with the $120 fee.
You already have employment authorization or do not require employment authorization | You must complete and file Form I-765 with no fee.
You are applying for employment authorization and are requesting a fee waiver | You must complete and file: (1) Form I-765 with no fee and (2) a fee waiver request and affidavit (and any other information) in accordance with 8 CFR 244.20.

How Does an Application for TPS Affect My Application for Asylum or Other Immigration Benefits?

An application for TPS does not affect an application for asylum or any other immigration benefit. A national of Honduras (or alien having no nationality who last habitually resided in Honduras) who is otherwise eligible for TPS and has applied for, or plans to apply for, asylum, but who has not yet been granted asylum or withholding of removal, may also apply for TPS. Denial of an application for asylum or any other immigration benefit does not affect an applicant's ability to apply for TPS, although the grounds for denying one form of relief may also be grounds for denying TPS. For example, a person who has been convicted of a particularly serious crime is not eligible for asylum or TPS. 8 U.S.C. 1158(b)(2); 8 U.S.C. 1254a(c)(2)(B)(i).

Does This Extension Allow Nationals of Honduras (or Aliens Having No Nationality Who Last Habitually Resided in Honduras) Who Entered the United States After December 30, 1998, to Apply for TPS?

No. This is a notice of an extension of the TPS designation for Honduras, not a notice of re-designation of Honduras under the TPS program. An extension of TPS does not change the required dates of continuous residence and continuous physical presence in the United States. This extension does not expand TPS availability to those who are not already TPS class members. To be eligible for this extension, Hondurans (or aliens having no nationality and who last habitually resided in Honduras) must have resided continuously in the United States since December 30, 1998 and have been continuously physically present in the United States since January 5, 1999.

Is Late Initial Registration Possible?

Yes. Some persons may be eligible for late initial registration under 8 CFR 244.2. To apply for late initial registration an applicant must:

(1) Be a national of Honduras (or alien who has no nationality and who last habitually resided in Honduras);

(2) Have been continuously physically present in the United States since January 5 1999;

(3) Have continuously resided in the United States since December 30, 1998; and

(4) Be both admissible as an immigrant, except as provided under section 244(c)(2)(A) of the Act, and not ineligible under section 244(c)(2)(B) of the Act.

Additionally, the applicant must be able to demonstrate that during the initial registration period from January 5, 1999, through July 5, 2000, he or she:

(1) Was a nonimmigrant or had been granted voluntary departure status or any relief from removal;

(2) Had an application for change of status, adjustment of status, asylum, voluntary departure, or any relief from removal or change of status pending or subject to further review or appeal;

(3) Was a parolee or had a pending request for reparole; or

(4) Was the spouse or child of an alien currently eligible to be a TPS registrant. 8 CFR 244.2(f)(2).

An applicant for late initial registration must file an application for late registration within a 60-day period immediately following the expiration or termination of the conditions described above. 8 CFR 244.2(g).

Notice of Extension of Designation of Honduras Under the TPS Program

By the authority vested in me as Attorney General under sections 244(b)(1)(B), (b)(3)(A), and (b)(3)(C) of the Act, I have consulted with the appropriate government agencies and determine that the conditions that prompted designation of Honduras for TPS continue to be met. 8 U.S.C. 1254a(b)(3)(A). Accordingly, I order as follows:

(1) The designation of Honduras under section 244(b) of the Act is extended for an additional 12-month period from July 5, 2002, to July 5, 2003. 8 U.S.C. 1254a(b)(3)(C).

(2) There are approximately 105,000 nationals of Honduras (or aliens having no nationality who last habitually resided in Honduras) who have been granted TPS and who are eligible for re-registration.

(3) To maintain TPS, a national of Honduras (or an alien having no nationality who last habitually resided in Honduras) who received TPS during the initial designation period must re-register for TPS during the 60-day re-registration period from May 3, 2002 until July 2, 2002.

(4) To re-register, the applicant must file the following: (1) Form I-821, Application for Temporary Protected Status; (2) Form I-765, Application for Employment Authorization; and (3) two identification photographs (1½ inches by 1½ inches). There is no fee for a Form I-821 filed as part of the re-registration application. If the applicant requests employment authorization, he or she must submit one hundred and twenty dollars ($120) or a properly documented fee waiver request, pursuant to 8 CFR 244.20, with the Form I-765. An applicant who does not request employment authorization must nonetheless file Form I-765 along with Form I-821, but is not required to submit the fee. The fifty dollar ($50) fingerprint fee is required only for children beneficiaries of TPS who have reached the age of 14 but were not previously fingerprinted. Failure to re-register without good cause will result in the withdrawal of TPS. 8 CFR 244.17(c). Some persons who had not previously applied for TPS may be eligible for late initial registration under 8 CFR 244.2.

(5) At least 60 days before this extension terminates on July 5, 2003, the Attorney General will review the designation of Honduras under the TPS program and determine whether the conditions for designation continue to be met. 8 U.S.C. 1254a(b)(3)(A). Notice of that determination, including the basis for the determination, will be published in the Federal Register. 8 USC 1254a(b)(3)(A).

(6) Information concerning the extension of designation of Honduras under the TPS program will be available at local INS offices upon publication of this notice and the INS National Customer Service Center at 1-800-375-5283. This information will also be posted on the INS website at http://www.ins.usdoj.gov.

Dated: April 30, 2002.
John Ashcroft,
Attorney General.

[FR Doc. 02-11130 Filed 5-1-02; 12:59 pm]

BILLING CODE 4410-10-P